LEGAL SERVICES CORPORATION

Sunshine Act Meeting of the Board of Directors Finance Committee

TIME AND DATE: The Finance Committee of the Legal Services Corporation Board of Directors will meet on June 25, 2000. The meeting will begin at 1:00 p.m. and continue until the Committee concludes its agenda.

LOCATION: Radisson Plaza Hotel Minneapolis, 35 South 7th Street, Minneapolis, MN 55402.

STATUS OF MEETING: Open.

MATTERS TO BE CONSIDERED:

1. Approval of agenda.

2. Review of the Legal Services Corporation's Consolidated Operating Budget, Expenses, and Other Funds available through April 30, 2000.

3. Review the projected operating expenses for fiscal year 2000 based on operating experience through March 31, 2000 and the required internal budgetary adjustments due to shifting priorities.

4. Consider and act on the President's recommendations for consolidated operating budget reallocations.

5. Report on internal budgetary adjustments by the President and Inspector General.

6. Report on budgetary needs for Fiscal Year 2002.

7. Consider and act on other business.

8. Public comment.

CONTACT PERSON FOR INFORMATION: Victor M. Fortuno, Vice President for Legal Affairs, General Counsel, and Corporate Secretary, at (202) 336-8800.

SPECIAL NEEDS: Upon request, meeting notices will be made available in alternate formats to accommodate visual and hearing impairments. Individuals who have a disability and need an accommodation to attend the meeting may notify Shannon Nicko Adaway, at (202) 336-8800.

Dated: June 15, 2000.
Victor M. Fortuno,
Vice President for Legal Affairs, General Counsel, and Corporate Secretary.

[FR Doc. 00-15708 Filed 6-16-00; 3:30 pm]

BILLING CODE 7050-01-P